INTERNATIONAL TRADE COMMISSION

[Investigation Nos. 701-TA-464 and 731-TA-1160 (Final)]

Prestressed Concrete Steel Wire Strand From China; Determinations

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China of prestressed concrete steel wire strand (PC strand), provided for in subheading 7312.10.30 of the Harmonized Tariff Schedule of the United States, that have been found by the Department of Commerce (Commerce) to be subsidized by the Government of China and that have been found by Commerce to be sold in the United States at less than fair value (LTFV).

¹ The record is defined in sec. 207.2(f) of the Commission's Rules of Practice and Procedure (19 CFR 207.2(f)).

Background

The Commission instituted these investigations effective May 27, 2009, following receipt of a petition filed with the Commission and Commerce by American Spring Wire Corp. (Bedford Heights, OH); Insteel Wire Products Co. (Mt. Airy, NC); and Sumiden Wire Products Corp. (Dickson, TN). The final phase of the investigations was scheduled by the Commission following notification of preliminary determinations by Commerce that imports of PC strand from China were being subsidized and sold at LTFV within the meaning of sections 703(b) and 733(b) of the Act (19 U.S.C. 1671b(b) and 1673b(b)). Notice of the scheduling of the final phase of the Commission's investigations and of a public hearing to be held in connection therewith was given by posting copies of the notice in the Office of the Secretary, U.S. International Trade Commission, Washington, DC, and by publishing the notice in the Federal Register of February 23, 2010 (75 FR 8113). The hearing was held in Washington, DC, on May 6, 2010, and all persons who requested the opportunity were permitted to appear in person or by counsel.

The Commission transmitted its determinations in these investigations to the Secretary of Commerce on June 22, 2010. The views of the Commission are contained in USITC Publication 4162 (June 2010), entitled Prestressed Concrete Steel Wire Strand from China: Investigation Nos. 701-TA-464 and 731-TA-1160 (Final).

By order of the Commission.
Issued: June 23, 2010.
Marilyn R. Abbott,
Secretary to the Commission.

[FR Doc. 2010-15660 Filed 6-25-10; 8:45 am]

BILLING CODE 7020-02-P